FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 31, 2016.

A. Federal Reserve Bank of Philadelphia (William Lang, Senior Vice President) 100 North 6th Street, Philadelphia, Pennsylvania 19105-1521:

1. Patriot Financial Partners, GP, L.P., Patriot Financial Partners, L.P., Patriot Financial Partners Parallel, L.P., Patriot Financial Partners GP, LLC, Patriot Financial Manager LLP, Patriot Financial Manager, L.P., all of Philadelphia, Pennsylvania; W. Kirk Wycoff, Fort Washington, James J. Lynch, Lafayette Hill, and Ira M. Lubert, Philadelphia, all of Pennsylvania; to acquire 10 percent or more of Heritage Commerce Corp, San Jose, California, and thereby indirectly control Bank of Commerce, San Jose, California.

B. Federal Reserve Bank of Chicago (Colette A. Fried, Assistant Vice President) 230 South LaSalle Street, Chicago, Illinois 60690-1414:

1. Orville A. Rehder 2nd Revocable Living Trust, with Orville A. Rehder as trustee, Jeffrey A. Rehder, and Steve C. Rehder, all of Hawarden, Iowa; to join the Rehder Family Control Group (currently consisting of Orville A. Rehder and George J. Rehder, both of Hawarden, Iowa) and retain control of voting shares of First State Associates, Inc., Hawarden, Iowa, and thereby indirectly retain control of First State Bank, Hawarden, Iowa; Farmers State Bank, Marion, South Dakota; and Miner County Bank, Howard, South Dakota.

Board of Governors of the Federal Reserve System, May 10, 2016.
Michael J. Lewandowski,
Associate Secretary of the Board.

[FR Doc. 2016-11422 Filed 5-13-16; 8:45 am]

BILLING CODE 6210-01-P